DEPARTMENT OF COMMERCE

International Trade Administration

[A-570-900, A-580-855]

Diamond Sawblades and Parts Thereof from the People's Republic of China and the Republic of Korea: Notice of Court Decision Not In Harmony With Final Determination of the Antidumping Duty Investigations

AGENCY: Import Administration, International Trade Administration, Department of Commerce.

SUMMARY: On January 13, 2009, the United States Court of International Trade (“CIT”) affirmed the International Trade Commission's (“ITC”) amended determination upon remand that an industry in the United States is threatened with material injury by reason of imports of diamond sawblades and parts thereof (“diamond sawblades”) from the People's of China (“PRC”) and the Republic of Korea (“Korea”). Diamond Sawblades Mfrs. Coalition v. United States, No. 06-00247, Slip Op. 09-05 (CIT January 13, 2009) (“DSMC”). The case arises out of the ITC's final determination in the antidumping duty investigations. See {Investigations Nos. 731-TA-1092 and 1093 (Final)} Diamond Sawblades and Parts Thereof From China and Korea, 71 FR 39128 (July 11, 2006) (“Final Determination”). The judgment in this case was not in harmony with the ITC's Final Determination. If the CIT's opinion in this case is not appealed, or is affirmed on appeal, then antidumping duty orders on diamond sawblades from the PRC and Korea will be issued. In accordance with the decision of the U.S. Court of Appeals for the Federal Circuit (“CAFC”) in Timken Co. v. United States, 893 F.2d 337, 341 (Fed. Cir. 1990) (“Timken”), the Department will order the suspension of liquidation of the subject merchandise.

EFFECTIVE DATE: January 23, 2009.

FOR FURTHER INFORMATION CONTACT: Alex Villanueva, AD/CVD Operations, Office 9, Import Administration, International Trade Administration, U.S. Department of Commerce, 1401 Constitution Avenue, NW, Washington, DC 20230, telephone: (202) 482-3208.

SUPPLEMENTARY INFORMATION:

Background

On July 11, 2006, the ITC published its final determination that an industry in the United States was not materially injured or threatened with material injury by reason of imports of diamond sawblades from the PRC and Korea. Final Determination, 71 FR 39128. The petitioners¹ in the antidumping duty investigation instituted an action challenging the ITC's final determination. On February 6, 2008, the CIT issued Diamond Sawblades Mfrs. Coalition v. United States, No. 06-247, Slip Op. 2008-18 (CIT February 6, 2008), which remanded the determination to the ITC for reconsideration. Upon remand, the ITC changed its determination and found that a U.S. industry is threatened with material injury by reason of imports of diamond sawblades from the PRC and Korea. See ITC Pub. 4007 (May 2008), Diamond Sawblades and Parts Thereof from China and Korea: Investigation Nos. 731-TA-1092 and 1093 (Final)(Remand), which can be accessed directly at (http://www.usitc.gov/trade_remedy/731_ad_701_cvd/investigations/index_opinions/index.htm). The CIT issued a confidential opinion regarding the ITC's determination on remand on January 13, 2009. DSMC, Slip Op. 09-05. The ITC informed the Department of Commerce (“Department”) by letter dated January 22, 2009, that the CIT's January 13, 2009, opinion in DSMC sustains the ITC's threat-of-material-injury determination. Accordingly, upon notice from the ITC of no appeal or, if appealed, of a “conclusive” decision by the CAFC affirming DSMC, antidumping duty orders on diamond sawblades from the PRC and Korea will be issued.

¹ The Diamond Sawblade Manufacturers' Coalition.

Suspension of Liquidation

In Timken, the CAFC held that, pursuant to section 516A(c)(1) of the Tariff Act of 1930, as amended (“the Act”), the Department must publish notice of a court decision that is not “in harmony” with an ITC determination. Timken, 893 F.2d at 341. The CIT's January 13, 2009, opinion in DSMC constitutes a decision not in harmony with the ITC's Final Determination. See ITC January 22, 2009, Letter. Thus, publication of this notice fulfills the obligation arising under Timken. The CAFC also held that the Department must suspend liquidation of the subject merchandise until there is a “conclusive” decision in the case. Timken, 893 F.2d at 341; Smith Corona Corp. v. United States, 915 F.2d 683, 688 (Fed. Cir. 1990). Therefore, effective January 23, 2009, the Department is suspending liquidation pending the expiration of the period to appeal or pending a final decision of the CAFC if DSMC is appealed.

Comments submitted by interested parties are addressed in the Memorandum from John M. Andersen, Acting Deputy Assistant Secretary, Antidumping and Countervailing Duty Operations, for Import Administration, to Ronald K. Lorentzen, Acting Assistant Secretary for Import Adminstration, dated February 3, 2009, which is available in Room 1117 of the Department of Commerce building.

This notice is issued and published in accordance with section 516A(c)(1) of the Act.

Dated: February 3, 2009.
Ronald K. Lorentzen,
Acting Assistant Secretary for Import Administration.

[FR Doc. E9-2642 Filed 2-9-09; 8:45 am]

BILLING CODE 3510-DS-S